DEPARTMENT OF ENERGY

Environmental Management Site-Specific Advisory Board, Northern New Mexico

AGENCY: Department of Energy.

ACTION: Notice of open meeting.

SUMMARY: This notice announces a meeting of the Environmental Management Site-Specific Advisory Board (EM SSAB), Northern New Mexico. The Federal Advisory Committee Act (Pub. L. No. 92-463, 86 Stat. 770) requires that public notice of this meeting be announced in the Federal Register.

DATES: Wednesday, July 26, 2006, 2 p.m.-8:30 p.m.

ADDRESSES: Jemez Complex, Santa Fe Community College, 6401 Richards Avenue, Santa Fe, New Mexico.

FOR FURTHER INFORMATION CONTACT: Menice Santistevan, Northern New Mexico Citizens' Advisory Board, 1660 Old Pecos Trail, Suite B, Santa Fe, NM 87505. Phone (505) 995-0393; Fax (505) 989-1752 or E-mail: msantistevan@doeal.gov.

SUPPLEMENTARY INFORMATION: Purpose of the Board: The purpose of the Board is to make recommendations to DOE in the areas of environmental restoration, waste management, and related activities.

Tentative Agenda

2 p.m. Call to Order by Deputy Designated Federal Officer (DDFO), Christina Houston

Establishment of a Quorum

Welcome and Introductions by Chair, J. D. Campbell

Approval of Agenda

Approval of Minutes of May 20, 2006 Board Meeting

2:15 p.m. Board Business / Reports

A. Old Business, Chair, J. D. Campbell

B. Report from Chair, J. D. Campbell

C. Report from Department of Energy (DOE), Christina Houston

D. Report from Executive Director, Menice Santistevan

E. Other Issues, Board Members

New Business

2:45 p.m. Committee Business / Reports

A. Environmental Monitoring, Surveillance and Remediation Committee, Chris Timm

B. Waste Management Committee, Donald Jordan

C. Ad Hoc Committee on Bylaws and Administrative Procedures, Donald Jordan

D. Reports from Liaison Members

U.S. Environmental Protection Agency (EPA)—Rich Mayer

DOE—Gene Rodriguez

University of California/Los Alamos National Laboratory (UC/LANL)—Andy Phelps

New Mexico Environment Department (NMED)—James Bearzi

3:45 p.m. Break

4 p.m. DOE Los Alamos Site Office (DOE/LASO) and UC/LANL Business, Ed Wilmot

5 p.m. Dinner Break

6 p.m. Public Comment

6:15 p.m. Consideration and Action on Recommendations

6:30 p.m. DOE/LASO and UC/LANL Presentation

7:30 p.m. Comments from Liaison Members—DOE/LASO, LANL, EPA, NMED 8 p.m. Comments from Board Members

8:15 p.m. Recap of Meeting: Issuance of Press Releases, Editorials, etc., J. D. Campbell

8:30 p.m. Adjourn, Christina Houston

This agenda is subject to change at least one day in advance of the meeting.

Public Participation: The meeting is open to the public. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes of this meeting will be available for public review and copying at the U.S. Department of Energy's Freedom of Information Public Reading Room, 1E-190, Forrestal Building, 1000 Independence Avenue, SW., Washington, DC 20585 between 9 a.m. and 4 p.m., Monday-Friday, except Federal holidays. Minutes will also be available at the Public Reading Room located at the Board's office at 1660 Old Pecos Trail, Suite B, Santa Fe, NM. Hours of operation for the Public Reading Room are 9 a.m.-4 p.m. on Monday through Friday. Minutes will also be made available by writing or calling Menice Santistevan at the Board's office address or telephone number listed above. Minutes and other Board documents are on the Internet at: http://www.nnmcab.org.

Issued at Washington, DC, on June 27, 2006.
Rachel M. Samuel,
Deputy Advisory Committee Management Officer.

[FR Doc. 06-5910 Filed 6-29-06; 8:45 am]

BILLING CODE 6450-01-P